DEPARTMENT OF DEFENSE

Department of the Navy

Notice of Availability of Record of Decision for the Atlantic Fleet Training and Testing Final Environmental Impact Statement/Overseas Environmental Impact Statement

AGENCY: Department of the Navy, DoD.

ACTION: Notice.

SUMMARY: The United States Department of the Navy (DoN), announces its decision to conduct training and testing in the Atlantic Fleet study area as described in Alternative 1 of the Atlantic Fleet Training and Testing Final Environmental Impact Statement/Overseas Environmental Impact Statement (AFTT FEIS/OEIS). Under Alternative 1, the DoN will be able to meet current and future DoN training and testing requirements.

SUPPLEMENTARY INFORMATION: Alternative 1 is the DoN's preferred alternative, and is representative of training to account for the natural fluctuations of training cycles, deployment schedules, and use of synthetic training opportunities. Alternative 1 also includes an annual level of testing that reflects the fluctuations in DoN testing programs. The complete text of the Record of Decision (ROD) for the AFTT FEIS/OEIS is available on the project website at http://aftteis.com, along with the September 2018 AFTT FEIS/OEIS, dated September 2018 and supporting documents. Single copies of the ROD are available upon request by contacting: Naval Facilities Engineering Command Atlantic, Attn: Code EV22 (AFTT EIS/OEIS project manager), 6506 Hampton Boulevard, Norfolk, VA 23508-1278.

Dated: October 23, 2018.
Meredith Steingold Werner,
Lieutenant Commander, Judge Advocate General's Corps, U.S. Navy, Federal Register Liaison Officer.

[FR Doc. 2018-23488 Filed 10-25-18; 8:45 am]

BILLING CODE 3810-FF-P